DEPARTMENT OF TRANSPORTATION

Federal Aviation Administration

Notice of Intent of Waiver With Respect to Land; Lake County Executive Airport, Willoughby, Ohio

AGENCY: Federal Aviation Administration (FAA), DOT.

ACTION: Notice.

SUMMARY: The FAA is considering a proposal to change 12.53 acres of airport land from aeronautical use to non-aeronautical use and to authorize the lease of airport property located at Lake County Executive Airport, Willoughby, Ohio. The aforementioned land is not needed for aeronautical use. The property is located east of Lost Nation Road and north of Jet Center Place, adjacent to the Lost Nation Sports Park. The property is designated as aeronautical use however the existing use and proposed future use as a soccer field is non-aeronautical.

DATES: Comments must be received on or before June 12, 2023.

ADDRESSES: All requisite and supporting documentation will be made available for review by appointment at the FAA Detroit Airports District Office, Evonne M. McBurrows, Program Manager, 11677 S Wayne Road, Suite 107, Romulus, Michigan 48174. Telephone: (734) 229-2945/Fax: (734) 229-2950 and Patty Fulop, Manager, 38550 Jet Center Drive, Willoughby, OH 44094.

Written comments on the Sponsor's request may be submitted using any of the following methods:

• Federal eRulemaking Portal: Go to http://www.regulations.gov, and follow the instructions for sending your comments electronically.

• Mail: Evonne M. McBurrows, Program Manager, Federal Aviation Administration, Detroit Airports District Office, 11677 S Wayne Road, Romulus, Michigan 48174.

• Hand Delivery: Deliver to mail address above between 8 a.m. and 5 p.m. Monday through Friday, excluding Federal holidays.

• FAX: (734) 229-2950.

FOR FURTHER INFORMATION CONTACT: Evonne M. McBurrows, Program Manager, Federal Aviation Administration, Detroit Airports District Office, 11677 S Wayne Road, Romulus, Michigan 48174. Telephone Number: (734) 229-2945/FAX Number: (734) 229-2950.

SUPPLEMENTARY INFORMATION: In accordance with section 47107(h) of Title 49, United States Code, this notice is required to be published in the Federal Register 30 days before modifying the land-use assurance that requires the property to be used for an aeronautical purpose.

The property was acquired by the City of Willoughby under Federal grant 3-39-0090-01 and transferred to the Lake County Ohio Port and Economic Development Authority (now Lake Development Authority). The current use of the property is as a 12.53 acre soccer field. This is also proposed to remain as the future non-aeronautical use of the land. The airport will continue to lease the parcel at Fair Market Value.

The disposition of proceeds from the lease of the airport property will be in accordance with FAA's Policy and Procedures Concerning the Use of Airport Revenue, published in the Federal Register on February 16, 1999 (64 FR 7696).

This notice announces that the FAA is considering the release of the subject airport property at the Lake County Executive Airport, Willoughby, Ohio from its obligations to be maintained for aeronautical purposes. Approval does not constitute a commitment by the FAA to financially assist in the change in use of the subject airport property nor a determination of eligibility for grant-in-aid funding from the FAA.

Legal Description of a 12.531 Ac. Land Lease Area

Situated in the City of Willoughby, County of Lake and State of Ohio and being part of Original Lot No. 6, Douglas Tract and being further bounded and described as follows;

Beginning at a monument at the center of the cul-de-sac of Jet Center Place (variable right of way) as recorded in Volume 16 Page 34 of Lake County map records; Thence North 13°31′14″ East, a distance of 68.50 feet to the westerly right of way of Jet Center Place and the westerly line of lands conveyed to the Lake County Ohio Port and Economic Development Authority by Doc. No. 2014R025222 of LCR, Permanent Parcel No. 27B-54-13 and the easterly line of lands conveyed to Weston Jet Center Road LLC by Doc. No. 2018R032352, Permanent Parcel No. 27B-54-17;

Thence North 00°44′06″ East, along the westerly line of land of the Lake County Ohio Port and Economic Development Authority and the easterly line of Weston Jet Center Road LLC, a distance of 82.96 feet to the northwesterly corner of said Lake County Ohio Port and Economic Development Authority and being the principal place of beginning of the land lease area herein described;

Course I: Thence North 01°13′44″ East, continuing along the easterly line of said Weston Jet Center Road LLC, a distance of 903.33 feet to the southerly line of land conveyed to Kennedy Group Lost Nation Parkway I Ltd, by Doc. No. 2009R009487, Permanent Parcel No. 24B-54-23;

Course II: Thence South 88°46′16″ East, along the southerly line of Kennedy Group Lost Nation Parkway I Ltd, a distance of 605.50 feet to a point;

Course III: Thence South 01°13′44″ West, a distance of 899.68 feet to a point on the northerly line of previously said Lake County Ohio Port and Economic Development Authority;

Course IV: Thence North 89°07′00″ West, along the northerly line of the Lake County Ohio Port and Economic Development Authority, a distance of 605.51 feet to the principal place of beginning and containing 12.531 acres of land as described by Scott A. Landgraf, Professional Surveyor No. 8085 in November 2022 and subject to all legal highways and easements of record. Bearings are based upon an assumed meridian and are used to describe angles only. Describing a 12.531 acre land lease area as a part of Parcel No. 27B-52-3 (Doc. No. 2014R025222).

Issued in Romulus, Michigan, on May 5, 2023.
Stephanie Swann,
Deputy Manager, Detroit Airports District Office, FAA, Great Lakes Region.

[FR Doc. 2023-10001 Filed 5-10-23; 8:45 am]

BILLING CODE 4910-13-P